CONSUMER PRODUCT SAFETY COMMISSION

Sunshine Act Meetings Notice (Correction)

TIME AND DATE: Wednesday, January 11, 2017, 9:30 a.m.-12:30 p.m.

PLACE: Hearing Room 420, Bethesda Towers, 4330 East-West Highway, Bethesda, Maryland.

STATUS: Commission Meeting—Open to the Public.

Matters To Be Considered:

1. Decisional Matter: Final Rule: Safety Standard for Sling Carriers (9:30 a.m.-11:00 a.m.)

2. Briefing Matter: Proposed Rule: Amendments to Fireworks Regulations (11:00 a.m.-12:00 p.m.)

A live webcast of the Meeting can be viewed at www.cpsc.gov/live.

CONTACT PERSON FOR MORE INFORMATION: Todd A. Stevenson, Office of the Secretary, U.S. Consumer Product Safety Commission, 4330 East-West Highway, Bethesda, MD 20814, (301) 504-7923.

Dated: January 5, 2017.
Todd A. Stevenson,
Secretary.

[FR Doc. 2017-00270 Filed 1-5-17; 4:15 pm]

BILLING CODE 6355-01-P